OFFICE OF MANAGEMENT AND BUDGET

Public Availability of Year 2000 Agency Inventories Under the Federal Activities Inventory Reform Act of 1998 (Public Law 105-270) (“FAIR Act”)

AGENCY: Office of Management and Budget, Executive Office of the President.

ACTION: Notice of Public Availability of Commercial Activities Inventories.

SUMMARY: Year 2000 FAIR Act Commercial Activities Inventories are now available to the public from the agencies listed below. The Office of Federal Procurement Policy has prepared and is making available a summary FAIR Act User's Guide through its Internet site:

http://www.whitehouse.gov/OMB/procurement/index.html.

This User's Guide will help interested parties review Year 2000 FAIR Act inventories, and will also include the web-site addresses to access agency inventories.

The “Federal Activities Inventory Reform Act of 1998” (Public Law 105-270) (“FAIR Act”) requires that OMB publish an announcement of public availability of agency Commercial Activities Inventories upon completion of OMB's review and consultation process concerning the content of the agencies' inventory submissions. OMB has completed this process for the agencies listed below. Further announcements will be published as OMB and the agencies complete their review and consultation process.

The attached Commercial Activities Inventories are now available.

Jacob J. Lew,
Director.

Agency | Contact
African Development Foundation | Tom Wilson, 202-673-3948. Website: www.adf.gov.
Agency for International Development | Deborah Lewis, 202-712-0936. Website: www.usaid.gov/procurement—bus—opp.
Agency for International Development (OIG) | Deborah Lewis, 202-712-0936. Website: www.usaid.gov/procurement—bus—opp
Agriculture | Richard Guyer, 202-690-0291. Website: www.usda.gov/ocfo.
| Richard Kodl, 202-884-7666. Website: www.arc.gov/infopubs/infomain.htm.
Appalachian Regional Commission | Hubert Sparks, 202-884-7675. Website: www.arc.gov/infopubs/infomain.htm.
Appalachian Regional Commission (OIG) | Richard Guyer, 202-690-0291. Website: www.usda.gov/ocfo.
Architectural and Transportation Barriers Compliance Board | Lawrence W. Roffee, 202-272-5434, ext. 113 Website: www.access-board.gov.
Barry Goldwater Scholarship and Excellence in Education Foundation | Gerald J. Smith, 703-756-6012. Website: www.act.org/goldwater
Christopher Columbus Fellowship Foundation | Judith M. Shellenberger, (315) 258-0090 Website: www.columbusfdn.org
Commerce | Edna Campbell, 202-482-0585. Website: www.doc.gov/oebam/fair.
Commission on Fine Arts | Jeff Carson, 202-504-2200. No Website currently available.
Committee for Purchase from People who are Blind or Severely Disabled | Lee Wilson, 703-603-7740. Website: www.jwod.gov.
Council on Environmental Quality | Ellen Athas, 202-456-6541.Website: www.whitehouse.gov/CEQ.
Consumer Product Safety Commission | Edward E. Quist, 301-504-0029. ext. 2240.Website: www.cpsc.gov/businfo/businfo.html.
Education Department | Gary Weaver, 202-401-3848. Website: www.ed.gov/offices/OCFO/2000fair.html.
Federal Election Commission | John O'Brien, 202-694-1215. Website: www.fec.gov.
Federal Emergency Management Agency | Colleen Kennedy-Roberts, 202-646-2988. Website: www.fema.gov.
Federal Retirement Thrift Investment Board | Richard White, 202-942-1633. Website: www.frtib.gov/eread.html.
General Services Administration | Tom Fitzpatrick, 202-501-0324. Website: www.cfo.gsa.gov.
Harry S. Truman Scholarship Foundation | Louis H. Blair, 202-395-4831. Website: www.truman.gov.
Health and Human Services | Michael Colvin, 202-690-7887. Website: www.hhs.gov/progorg/oam/fair
Housing and Urban Development | Janice W. Blake-Green, 202-708-0638. Website: www.hud.gov/cfo/cforept.html.
Institute of Museum and Library Services | Linda Bell, 202-606-8637. Website: www.imls.gov.
Inter-American Foundation | Linda Borst, (703) 306-4308. Website: www.iaf.gov.
James Madison Memorial Fellowship Foundation | Steve Weiss, 202-653-6109. Website: www.jamesmadison.com.
Japan-United States Friendship Commission | Eric Ganloff, 202-418-9800. Website: www.jusfc.gov.
Kennedy Center for the Performing Arts | Jared Barlage, 202-416-8721. Website: www.kennedy-center.org/about/administration.html.
Marine Mammal Commission | Suzanne Montgomery, 301-504-0087. No Website currently available.
National Commission on Libraries and Information Science | Judith C. Russell, 202-606-9200. Website: www.nclis.gov.
National Council on Disability | Ethel D. Briggs, 202-272-2004. Website: www.ncd.gov/newsroom/correspondence (pull up lew 7-14-00.html).
National Education Goals Panel | John Masaitis, 202-724-0015. Website: www.negp.gov (hit search and type in A-76).
National Endowment for the Arts | Mike Burke, 202-682-5497. Website: www.arts.gov/learn/commercial2000.html.
National Labor Relations Board (OIG) | Emil T. George, 202-273-1960. Website: www.nlrb.gov/active.html.
Office of U.S. Trade Representative | Barbara Ferguson, 202-456-6001 www.ustr.gov.
Peace Corps | Susan Hancks, 202-692-1612 Website: www.peacecorps.gov.
Railroad Retirement Board | Henry M. Valiulis, 312-751-4520 Website: www.rrb.gov/emaillink.html.
Railroad Retirement Board | Martin J. Dickman, 312-751-4690. Website: www.rrb.gov/emaillink.html.
Smithsonian Institution | L. Carole Wharton, 202-357-2917. Website: www.si.edu/si_fairact.htm.
U. S. Trade and Development Agency | Julie Norton, 703-875-6066 Website: www.tda.gov.

[FR Doc. 00-31880 Filed 12-13-00; 8:45 am]

BILLING CODE 3110-01-P